OFFICE OF PERSONNEL MANAGEMENT

5 CFR Part 532

RIN 3206-AM32

Prevailing Rate Systems; Redefinition of the Madison, WI, and Southwestern Wisconsin Appropriated Fund Federal Wage System Wage Areas

AGENCY: U.S. Office of Personnel Management.

ACTION: Proposed rule with request for comments.

SUMMARY: The U.S. Office of Personnel Management is issuing a proposed rule that would redefine the geographic boundaries of the Madison, Wisconsin, and Southwestern Wisconsin appropriated fund Federal Wage System (FWS) wage areas. The proposed rule would redefine Adams and Waushara Counties, WI, from the Southwestern Wisconsin wage area to the Madison wage area. These changes are based on recent consensus recommendations of the Federal Prevailing Rate Advisory Committee to best match the counties proposed for redefinition to a nearby FWS survey area. No other changes are proposed for the Madison and Southwestern Wisconsin FWS wage areas.

DATES: We must receive comments on or before December 20, 2010.

ADDRESSES: Send or deliver comments to Jerome D. Mikowicz, Deputy Associate Director for Pay and Leave, Employee Services, U.S. Office of Personnel Management, Room 7H31, 1900 E Street, NW., Washington, DC 20415-8200; e-mail pay-performance-policy@opm.gov; or FAX: (202) 606-4264.

FOR FURTHER INFORMATION CONTACT: Madeline Gonzalez, (202) 606-2838; e-mail pay-performance-policy@opm.gov; or FAX: (202) 606-4264.

SUPPLEMENTARY INFORMATION: The U.S. Office of Personnel Management (OPM) is issuing a proposed rule to redefine the Madison, WI, and Southwestern Wisconsin appropriated fund Federal Wage System (FWS) wage areas. This proposed rule would redefine Adams and Waushara Counties, WI, from the Southwestern Wisconsin wage area to the Madison wage area.

OPM considers the following regulatory criteria under 5 CFR 532.211 when defining FWS wage area boundaries:

(i) Distance, transportation facilities, and geographic features;

(ii) Commuting patterns; and

(iii) Similarities in overall population, employment, and the kinds and sizes of private industrial establishments.

Adams County is currently defined to the Southwestern Wisconsin area of application. Based on our analysis of the regulatory criteria for defining appropriated fund FWS wage areas, we find that Adams County would be more appropriately defined as part of the Madison area of application. When measuring to cities, the distance criterion favors the Madison wage area. When measuring to host installations, the distance criterion favors the Southwestern Wisconsin wage area. The transportation facilities and geographic features criteria are indeterminate. The commuting patterns criterion slightly favors the Madison wage area. Similarities in overall population, total private sector employment, and kinds and sizes of private industrial establishments favor the Southwestern Wisconsin wage area. Although a standard review of regulatory criteria shows mixed results, the distance criterion indicates Adams County is closer to the Madison survey area. Based on this analysis, we recommend that Adams County be redefined to the Madison wage area.

Waushara County is also currently defined to the Southwestern Wisconsin area of application. Our analysis of the regulatory criteria indicates that Waushara County would be more appropriately defined as part of the Madison wage area. When measuring to cities, the distance criterion favors the Madison wage area. When measuring to host installations, the distance criterion favors the Southwestern Wisconsin wage area. The transportation facilities and geographic features criteria are indeterminate. The commuting patterns criterion is also indeterminate. Similarities in overall population, total private sector employment, and kinds and sizes of private industrial establishments favor the Southwestern Wisconsin wage area. Although a standard review of regulatory criteria shows mixed results, the distance criterion indicates Waushara County is closer to the Madison survey area. Based on this analysis, we recommend that Waushara County be redefined to the Madison wage area.

The Federal Prevailing Rate Advisory Committee (FPRAC), the national labor-management committee responsible for advising OPM on matters concerning the pay of FWS employees, recommended these changes by consensus. These changes would be effective on the first day of the first applicable pay period beginning on or after 30 days following publication of the final regulations. FPRAC recommended no other changes in the geographic definitions of the Madison and Southwestern Wisconsin wage areas.

Regulatory Flexibility Act

I certify that these regulations would not have a significant economic impact on a substantial number of small entities because they would affect only Federal agencies and employees.

List of Subjects in 5 CFR Part 532

Administrative practice and procedure, Freedom of information, Government employees, Reporting and recordkeeping requirements, Wages.

U.S. Office of Personnel Management.
John Berry,
Director.

Accordingly, the U.S. Office of Personnel Management is proposing to amend 5 CFR part 532 as follows:

PART 532—PREVAILING RATE SYSTEMS

1. The authority citation for part 532 continues to read as follows:

Authority: 5 U.S.C. 5343, 5346; § 532.707 also issued under 5 U.S.C. 552.

2. Appendix C to subpart B is amended by revising the wage area listings for the Madison, WI, and Southwestern Wisconsin wage areas to read as follows:

Appendix C to Subpart B of Part 532—Appropriated Fund Wage and Survey Areas

* * * * *

WISCONSIN
Madison
Survey Area
Wisconsin:
Dane
Area of Application. Survey area plus:
Wisconsin:
Adams
Columbia
Dodge
Grant
Green
Green Lake
Iowa
Jefferson
Lafayette
Marquette
Rock
Sauk
Waushara
* * * * *
Southwestern Wisconsin
Survey Area
Wisconsin:
Chippewa
Eau Claire
La Crosse
Monroe
Trempealeau
Area of Application. Survey area plus:
Wisconsin:
Barron
Buffalo
Clark
Crawford
Dunn
Florence
Forest
Jackson
Juneau
Langlade
Lincoln
Marathon
Marinette
Menominee
Oconto
Oneida
Pepin
Portage
Price
Richland
Rusk
Shawano
Taylor
Vernon
Vilas
Waupaca
Wood
Minnesota:
Fillmore
Houston
Wabasha
Winona
* * * * *

[FR Doc. 2010-29014 Filed 11-17-10; 8:45 am]

BILLING CODE 6325-39-P